DEPARTMENT OF COMMERCE

National Oceanic and Atmospheric Administration

RIN 0648-XC159

Fisheries of the Northeast Region

AGENCY: National Marine Fisheries Service (NMFS), National Oceanic and Atmospheric Administration (NOAA), Commerce.

ACTION: Notification of determination of overfishing and approaching an overfished condition as well as inadequate progress in rebuilding.

SUMMARY: This action serves as a notice that NMFS, on behalf of the Secretary of Commerce (Secretary), has determined that the Gulf of Maine (GOM) stock of haddock is subject to overfishing and is approaching an overfished condition. In addition, the rebuilding plans for American plaice and the Southern New England/Mid-Atlantic (SNE/MA) stock of winter flounder were found to have not resulted in adequate progress toward rebuilding the affected fish stocks.

NMFS notifies the appropriate fishery management council (Council) whenever it determines that overfishing is occurring, a stock is in an overfished condition, a stock is approaching an overfished condition, or when a rebuilding plan has not resulted in adequate progress toward ending overfishing and rebuilding affected fish stocks.

FOR FURTHER INFORMATION CONTACT: Mark Nelson, (301) 427-8565.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2), NMFS, on behalf of the Secretary, must notify Councils whenever it determines that a stock or stock complex is: overfished; approaching an overfished condition; or an existing rebuilding plan has not ended overfishing or resulted in adequate rebuilding progress. NMFS also notifies Councils when it determines a stock or stock complex is subject to overfishing. Section 304(e)(2) further requires NMFS to publish these notices in the Federal Register.

On May 30, 2012, NMFS informed the New England Fishery Management Council of the latest status of the New England groundfish stocks. In that letter they indicate changes in the status of several stocks:

• GOM haddock is now subject to overfishing and is approaching an overfished condition;

• The rebuilding plan for American plaice has not resulted in adequate progress toward rebuilding. The stock is neither overfished nor subject to overfishing;

• The SNE/MA stock of winter flounder is no longer subject to overfishing but remains overfished and the stock's rebuilding plan has not resulted in adequate progress toward rebuilding the stock.

For the above stocks approaching an overfished condition, the Council must prevent overfishing and if the stock becomes overfished, steps must be taken under MSA § 304(e)(3) and (4) to end overfishing and to rebuild the stock. For the above stocks which are subject to rebuilding plans that have been determined to have not resulted in adequate progress towards rebuilding, within 2 years, the Council must revise the rebuilding plan for each stock and implement the revised plan, as required by MSA § 304(e)(3).

Dated: October 11, 2012.
Emily Menashes,
Acting Director, Office of Sustainable Fisheries, National Marine Fisheries Service.

[FR Doc. 2012-25455 Filed 10-15-12; 8:45 am]

BILLING CODE 3510-22-P